Title 3—

The President

Proclamation 10069 of September 4, 2020

Labor Day, 2020

By the President of the United States of America

A Proclamation

On Labor Day, we recognize and celebrate the workers of our great Nation. The American workforce is the best in the world and, since day one of my Administration, I have been standing up for the American worker. As recent global challenges have tested our mettle, the dedication of our workforce has once again proven that Americans' resolve will never be overcome. Today, we celebrate all workers, across every sector of our economy, whose efforts have never been more appreciated than in recent months.

Since the founding of our Nation, American workers have deployed their talents to build beautiful cities, develop new technologies, and shape the global economy. Now, our country depends on these hardworking patriots as we continue to aggressively fight the coronavirus pandemic. In particular, we celebrate every American who has worked tirelessly to ensure we maintain our way of life in this unprecedented time. These vital workers include medical professionals, grocery store and pharmacy clerks, farmers, meatpackers, truckers, factory workers, and the many employees who are important to the supply chain that makes essential goods and medications accessible to all Americans. Essential workers and volunteers like these and others have enabled my Administration to respond swiftly to the coronavirus pandemic and have safeguarded the prospects of countless American businesses and the lives and personal health of millions of people.

From my first day in office, my Administration has acted to foster an environment for growth, jobs, and prosperity. Having built the greatest economy the world has ever seen, my Administration will do it again. We will not rest until American workers are safely back at work. In March, I signed the Coronavirus Aid, Relief, and Economic Security Act, which established the Paycheck Protection Program that gave small businesses the resources to keep their employees on payroll during the pandemic. I also issued an Executive Order continuing the work of the National Council for the American Worker, which coordinates resources across our Federal Government to ensure our Nation's workers have the skills necessary for the jobs of the future. In addition, my Administration's Fiscal Year 2021 Budget includes $200 million for apprenticeship programs—up $25 million from current funding levels and more than double from when I first took office—to further support and expand a highly skilled workforce that is essential for global competitiveness. Even in the face of tremendous adversity, we have set record numbers in job growth along with record low unemployment—a trend that will continue with the help of millions of hardworking Americans across our country.

On this Labor Day, we express our deep gratitude to workers of every generation who helped create the greatest economy in the world and the workers whose tireless efforts will ensure our country and workforce bounce back with full force as we defeat the virus. Together, we will continue the great American comeback.

NOW, THEREFORE, I, DONALD J. TRUMP, President of the United States of America, by virtue of the authority vested in me by the Constitution and the laws of the United States, do hereby proclaim September 7, 2020, as Labor Day. I call upon all public officials and people of the United States to observe this day with appropriate programs, ceremonies, and activities that honor the contributions and resilience of working Americans.

IN WITNESS WHEREOF, I have hereunto set my hand this fourth day of September, in the year of our Lord two thousand twenty, and of the Independence of the United States of America the two hundred and forty-fifth.

[FR Doc. 2020-20281

Filed 9-10-20; 11:15 am]

Billing code 3295-F0-P